DEPARTMENT OF THE TREASURY

Submission for OMB Review; Comment Request

April 25, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 1, 2006 to be assured of consideration.

Federal Consulting Group

OMB Number: 1505-0191.

Type of Review: Extension.

Title: American Customer Satisfaction Index.

Description: The objectives of surveying citizen users of Federal Agencies as part of the American Customer Satisfaction Index are (1) to make the agencies part of a national measure of customer satisfaction; (2) to benchmark against other agencies and companies; and (3) to provide information for improving customer satisfaction.

Respondents: Individuals and households; Business or other-for-profit; Not-for-profit institutions; Farms, Federal Government and State, Local or Tribal Govt.

Estimated Number of Respondents: 117,000.

Estimated Total Reporting Burden: 23,400 hours.

Clearance Officer: Ron Oberbillig, (202) 504-3656, Federal Consulting Group, 1799 9th Street, NW., Washington, DC 20239.

OMB Reviewer: Alexander T. Hunt, (202) 395-7316, Office of Management and Budget, Room 10235, New Executive Office Building, Washington, DC 20503.

Michael A. Robinson,
Treasury PRA Clearance Officer.

[FR Doc. E6-6552 Filed 5-1-06; 8:45 am]

BILLING CODE 4810-25-P